DEPARTMENT OF ENERGY

Federal Energy Regulatory Commission

Combined Notice of Filings #2

Take notice that the Commission received the following electric corporate filings:

Docket Numbers: EC16-105-000.

Applicants: Beech Ridge Energy LLC, Beech Ridge Energy II LLC, Beech Ridge Energy Storage LLC, Bethel Wind Farm LLC, Bishop Hill Energy III LLC, Bishop Hill Interconnection LLC, Buckeye Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Invenergy TN LLC, Judith Gap Energy LLC, Peak View Wind Energy LLC, Prairie Breeze Wind Energy II LLC, Prairie Breeze Wind Energy III LLC, Sheldon Energy LLC, Spring Canyon Energy LLC, Stony Creek Energy LLC, Vantage Wind Energy LLC, Willow Creek Energy LLC, Wolverine Creek Energy LLC, Wolverine Creek Goshen Interconnection LLC.

Description: Application for Authorization Under Section 203 of the Federal Power Act and Request for Waivers and Expedited Action of Beech Ridge Energy LLC, et. al.

Filed Date: 4/19/16.

Accession Number: 20160419-5159.

Comments Due: 5 p.m. ET 5/10/16.

Take notice that the Commission received the following electric rate filings:

Docket Numbers: ER15-1428-000.

Applicants: MATL LLP.

Description: Informational Filing to implement Distribution Mechanism for Operational Penalties of MATL LLP.

Filed Date: 4/18/16.

Accession Number: 20160418-5307.

Comments Due: 5 p.m. ET 5/9/16.

Docket Numbers: ER16-1457-000.

Applicants: Unitil Power Corp.

Description: Unitil Power Corp submits Statement of all billing transactions under the Amended Unitil System Agreement for the period January 1, 2015 to December 31, 2015.

Filed Date: 4/19/16.

Accession Number: 20160419-5102.

Comments Due: 5 p.m. ET 5/10/16.

Docket Numbers: ER16-1458-000.

Applicants: Aspirity Energy Mid-States LLC.

Description: § 205(d) Rate Filing: Notice of Succession to be effective 3/23/2016.

Filed Date: 4/19/16.

Accession Number: 20160419-5179.

Comments Due: 5 p.m. ET 5/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2016.
Nathaniel J. Davis, Sr.,
Deputy Secretary.

[FR Doc. 2016-09478 Filed 4-22-16; 8:45 am]

BILLING CODE 6717-01-P